DEPARTMENT OF HOMELAND SECURITY

Transportation Security Administration

RIN 1652-ZA18

TSA PreCheck® Application Program Fees

AGENCY: Transportation Security Administration, DHS.

ACTION: Notice.

SUMMARY: The Transportation Security Administration (TSA) administers the TSA PreCheck® Application Program, in which members of the public may apply to be eligible for expedited airport security screening. To apply for TSA PreCheck® Application Program eligibility, individuals voluntarily provide biometric and biographic information that TSA uses to conduct a security threat assessment and those applicants pay a fee to cover the cost to operate the TSA PreCheck® Application Program. In this Notice, TSA announces a change to the overall structure of the TSA PreCheck® Application Program Fee, establishes the fee amount of the TSA fee component within that structure, and identifies the fee for initial applications, in-person renewals, and online renewals for individuals enrolling through the Universal Enrollment Services enrollment provider. These updates are necessary to respond to recent changes in both cost and revenue streams that have occurred as a result of the global pandemic. These updates will enable investments to improve the TSA PreCheck® airport experience and will help to ensure that the program remains fully funded through the imposition and collection of fees from program applicants. TSA will publish and maintain a current listing of the overall fees for all TSA PreCheck® enrollment options at tsa.gov/precheck.

DATES: This notice is effective October 1, 2021.

FOR FURTHER INFORMATION CONTACT: Anne Walbridge, Transportation Security Administration, 6595 Springfield Center Drive, Springfield, VA 20598-6047; or email at TSAPrecheckEnrollment@dhs.gov.

SUPPLEMENTARY INFORMATION:

Availability of Notice Document

(1) Searching the electronic Federal Docket Management System web page at http://www.regulations.gov;

(2) Accessing the Government Printing Office's web page at http://www.gpo.gov/fdsys/browse/collection.action?collectionCode=FR to view the daily published Federal Register edition; or accessing the “Search the Federal Register by Citation” in the “Related Resources” column on the left, if you need to do a Simple or Advanced search for information, such as a type of document that crosses multiple agencies or dates; or

(3) Visiting TSA's Security Regulations web page at http://www.tsa.gov and accessing the link for “Stakeholders” at the top of the page, then the link “Research Center” in the left column.

In addition, copies are available by writing or calling the individual in the FOR FURTHER INFORMATION CONTACT section.

I. Summary

The TSA PreCheck® Application Program is a voluntary, expedited security screening program connecting low-risk travelers departing from the United States with smarter security and a better air travel experience.¹ There are approximately 10 million members in the TSA PreCheck® Application Program. Individuals enrolled in the TSA PreCheck® Application Program are eligible to receive expedited screening at U.S. airports. As explained in a December 2013 Notice in the Federal Register,² membership in the TSA PreCheck® Application Program is within the sole discretion of TSA. Individuals may also receive TSA PreCheck® expedited screening via membership in other programs such as certain U.S. Customs and Border Protection Trusted Traveler Programs. These individuals do not pay a fee to TSA for membership in such other programs.

¹ For purpose of this document, the “TSA PreCheck Application Program” refers to the DHS Trusted Traveler Program that TSA operates to determine if individuals are low-risk and may receive expedited screening. “TSA PreCheck” refers to expedited screening provided by TSA.

² See Notice, 78 FR 72922 (December 4, 2013).

TSA established the TSA PreCheck® Application Program in December 2013 to expand access to expedited screening to individuals who voluntarily provide information that TSA uses to determine whether the traveler is low risk.³ TSA uses biographic and biometric information the applicant provides to conduct a Security Threat Assessment (STA) that includes review of criminal history, immigration, intelligence, and regulatory violation records. As part of the enrollment process, TSA requires that applicants present government-issued identity documents with a photo to prove their identity. To prepare for REAL ID enforcement, in advance of the REAL ID card-based enforcement deadline,⁴ TSA will require new TSA PreCheck® Application Program applicants as well as renewal applicants to provide a REAL ID-compliant document if enrolling with a state-issued identity document. Applicants must also prove they are a U.S. person.

³ Id.

⁴ Information regarding REAL ID requirements and enforcement deadlines is available at www.dhs.gov/real-id.

Following enrollment, TSA evaluates the information generated by the vetting process to determine whether the individual poses a low risk to transportation and national security. Once completed, the STA remains valid for five years, provided the individual continues to meet the eligibility standards. At the end of the five-year term, individuals wishing to maintain their TSA PreCheck® Application Program eligibility must renew their membership in the program which includes a new STA.

If TSA determines that the applicant is low risk, TSA issues a Known Traveler Number (KTN) ⁵ that the individual can use when making flight reservations. Enrollment in the TSA PreCheck® Application Program and use of the associated KTN do not guarantee that an individual will receive expedited screening at airport security checkpoints. TSA retains an element of randomness to maintain unpredictability for security purposes, and travelers with valid KTNs may be selected for standard or enhanced physical screening on occasion.

⁵ The Known Traveler Number is a component of Secure Flight Passenger Data, which is defined in TSA Secure Flight regulations at 49 CFR 1560.3. See also the Secure Flight regulations at 49 CFR part 1560.

An individual is ineligible for a KTN and thus access to TSA PreCheck® expedited screening if TSA determines that the individual poses a risk to transportation or national security; has committed certain criminal acts; ⁶ does not meet the immigration status standards; ⁷ has committed regulatory violations; ⁸ or is otherwise not a low-risk traveler. TSA notifies individuals who it determines are ineligible for a KTN through the TSA PreCheck Application Program, or whose enrollment in the program is revoked, in writing, and they continue to undergo standard screening at airport security checkpoints.

⁶ See 49 CFR 1572.103 for the criminal standards that apply to TSA PreCheck applicants.

⁷ Individuals who apply for membership in the TSA PreCheck® Application Program must be U.S. citizens, U.S. Nationals, or Lawful Permanent Residents.

⁸ For instance, an individual who interferes with security screening or brings a weapon to the security checkpoint would be deemed ineligible for TSA PreCheck® expedited screening and their membership in the program may be revoked.

TSA is required by law to charge a non-refundable fee to cover the costs of operating the TSA PreCheck® Application Program.⁹ Collecting biographic and biometric information from applicants, conducting the STA, adjudicating the results of the STA, and managing the program ¹⁰ generate costs for TSA and for the enrollment providers who TSA has selected to help facilitate enrollment into the program. In the December 2013 Notice, TSA established a fee structure with a total fee of $85.¹¹ That total fee was comprised of a TSA Fee of $70.50 and an Federal Bureau of Investigations (FBI) Fee of $14.50. The TSA Fee included costs incurred by TSA as well as costs incurred by the enrollment provider. The FBI Fee was the cost set to conduct a fingerprint-based criminal history records check.

⁹ See 49 U.S.C. 114; § 540 of the DHS appropriations act of 2006, Public Law 109-90 (119 Stat. 2064, 2088-89, Oct. 18, 2005).

¹⁰ Id.

¹¹ See supra n. 2 at 72925 et seq.

In July 2021, TSA published a notice announcing the anticipated launch of additional enrollment providers who will be able to establish additional price points for the TSA PreCheck® Application Program.¹² TSA expects additional enrollment options through these providers to become available in 2021 to increase opportunities to apply for membership in the program. The new fee structure reflects this change in the program and will now consist of a TSA Component and Enrollment Provider Component that together, will be the Total Fee. The Enrollment Provider Component will take into account the cost of the criminal history records check conducted by the FBI. TSA will continue to publish the total fee amounts for all enrollment options via the agency's website at www.tsa.gov/precheck.

¹² See Notice, 86 FR 36293 (July 9, 2021).

II. Discussion of TSA Fee Change

TSA will impose the TSA Component of the fee for all individuals who apply for and renew membership. The TSA Component of the fee will be collected by the enrollment providers and remitted to TSA to cover the TSA costs to operate this successful traveler program for approximately 10 million travelers. Consistent with the statutory mandate,¹³ the TSA Component of the fee recovers TSA's costs to analyze the immigration, terrorism, criminal, and regulatory violation information generated in the checks of the various databases; determine whether applicants have a disqualifying factor or are eligible for the TSA PreCheck® Application Program; notify applicants of TSA's determination; issue KTNs to eligible individuals; conduct research and development for innovative enhancements to improve the TSA PreCheck® Application Program enrollment and the TSA PreCheck® expedited screening experience; and continue to monitor databases and information to confirm that the members remain low risk.

¹³ See infra n. 9.

The STA conducted by TSA will cover a term of five years from the date of approval and must be renewed with TSA at the end of that term if an individual wishes to maintain their TSA PreCheck® eligibility. Enrollment providers will be permitted to offer shorter duration memberships (e.g., one-year memberships) but must still remit the full TSA Component fee at initial enrollment to TSA to cover TSA's five-year costs. If a member allows the membership to lapse for any period of time and subsequently applies for renewal, the enrollment provider must remit the full TSA Component fee again.

TSA has determined that the TSA Component must be $42.75 in order to cover TSA-costs associated with STAs and operating the TSA PreCheck® Application Program. While TSA was able to achieve a small reduction in operating costs during the global pandemic (approximately $20 million), TSA experienced a significant reduction in revenue as a direct result of the measurable decline in air travel, program enrollments, and program renewals. TSA estimates that from April 2020 through March 2021 TSA experienced a $65 million reduction in anticipated revenue. While TSA PreCheck® enrollment recovered significantly as of the summer of 2021, TSA must account for lost revenue and unknown future enrollment volumes given unknown long term travel recovery. By separating the TSA Component and the Enrollment Provider Component, TSA can ensure that future revenue covers TSA's costs while promoting pricing transparency as new enrollment providers compete for applicants. See Table 1 for a summary of the changes to the fee components.

Table 1—Comparison of Current and New Fee Structures
Current fee structure | New fee structure
TSA Costs & Provider Costs | FBI Fee & Provider Costs
FBI Fee | TSA Costs
Total Fee = $85.00 | UES Fee = $85.00

While the new enrollment providers will offer varying price points, TSA and its current enrollment provider will maintain the $85.00 price currently set for new enrollments and in-person renewals. TSA offers an option for online renewal of TSA PreCheck Application® Program membership and over 95% of individuals choose the online renewal option. With this notice, TSA is announcing that the fee for online renewal will be $70.00 for enrollments through the Universal Enrollment Services enrollment provider. Future changes to this enrollment product and fees will be published on the TSA website at www.tsa.gov/precheck.

TSA estimates that the new TSA Component fee, will result in collections of an additional $44 million between Fiscal Year (FY) 2022 and FY 2025. This increased revenue will ensure that the TSA PreCheck Application® Program will remain solvent in future years. The increased revenue will also allow TSA to invest in improvements to the TSA PreCheck® airport experience. TSA will continue to monitor its costs and enrollments to ensure the program remains viable and the revenue aligns with cost.

The cost estimates used to determine the fee have been developed in accordance with the applicable statutory language, section 540 of the DHS Appropriations Act, 2006, and Office of Management and Budget Circular A-25. Further cost information is provided in the TSA PreCheck Application Program Fee Development Report at www.tsa.gov/precheck.

TSA will continue to publish the most up to date fee and product information for all enrollment options at www.tsa.gov/precheck.

Dated: September 23, 2021.
David Pekoske,
Administrator.

[FR Doc. 2021-21147 Filed 9-28-21; 8:45 am]

BILLING CODE 9110-05-P